DEPARTMENT OF HEALTH AND HUMAN SERVICES

Health Resources and Services Administration

Notice of Supplemental Award to the Association of State Territorial Public Health Nutrition Directors for the Children's Healthy Weight Collaborative Improvement and Innovation Cooperative Agreement

AGENCY: Health Resources and Services Administration (HRSA), Department of Health and Human Services (HHS).

ACTION: Notice.

SUMMARY: HRSA announces the award of a supplement in the amount of $300,000 for the Children's Healthy Weight Collaborative Improvement and Innovation (CoIIN) cooperative agreement. The supplement will permit the Association of State Territorial Public Health Nutrition Directors, the cooperative agreement recipient, during the period of September 1, 2019-August 31, 2020, to collect and analyze additional data from state teams and conduct a robust evaluation of their collective impact approach to prevent childhood obesity.

FOR FURTHER INFORMATION CONTACT: Meredith Morrissette, Division of Maternal and Child Health Workforce Development, Maternal and Child Health Bureau, HRSA, 5600 Fishers Lane, Rockville, Maryland 20852, Phone: (301) 443-6392, Email: mmorrissette@hrsa.gov.

SUPPLEMENTARY INFORMATION:

Intended Recipient of Award: Association of State and Territorial Public Health Nutrition Directors.

Amount of the Non-Competitive Award: $300,000.

Period of Supplemental Funding: 9/1/2019-08/31/2020.

CFDA Number: 93.110.

Authority: Social Security Act, Title V, § 501(a)(2) (42 U.S.C. 701(a)(2)).

Justification: The purpose of the Children's Healthy Weight CoIIN is to increase the proportion of children and young adults ages birth to 21 years who fall within a healthy weight range by supporting states to adopt evidence-based or evidence-informed policies and practices related to nutrition, physical activity, and breastfeeding to help states address the National Performance Measures and National Outcome Measure related to healthy weight. To support states, the Children's Healthy Weight CoIIN has established state-based teams to engage in collaborative learning and test evidence-based strategies; the recipient currently supports 12 state teams, across 13 unique states. State teamwork addresses identified state Title V priorities while supporting underserved communities, including communities at higher risk for childhood obesity. HRSA is awarding these funds as a supplement to the previous award, for the collection of additional data from states and a robust evaluation of their approach to prevent childhood obesity. The supplement of an additional year of funding will allow the recipient to collect and analyze data on state projects that will be implemented this year and evaluate the collective impact of the Children's Healthy Weight CoIIN on maternal and child health outcomes, helping to identify the most effective ways for HRSA to address childhood obesity and inform future activities related to nutrition and obesity.

Grantee/Organization name | Grant Number | State | FY 2019 Authorized funding level | FY 2019 Estimated supplemental funding
Association of State and Territorial Public Health Nutrition Directors | U7NMC30388 | PA | $300,000 | $300,000

Dated: March 13, 2019.
George Sigounas,
Administrator.

[FR Doc. 2019-05044 Filed 3-18-19; 8:45 am]

BILLING CODE 4165-15-P